FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012116.

Title: NYK/Hanjin/Hyundai-Americas North South Service Vessel Sharing Agreement.

Parties: Hanjin Shipping Co., Ltd; Hyundai Merchant Marine Co., Ltd; and Nippon Yusen Kaisha.

Filing Party: Patricia M. O'Neill, Esq.; Corporate Counsel; NYK Line (North America) Inc.; 300 Lighting Way, 5th Floor; Secaucus, NJ 07094.

Synopsis: The agreement authorizes the parties to charter space to each other in the trade between ports on Atlantic Coast of North America and ports in East Coast of South America, Jamaica, Mexico, and Dominican Republic.

Agreement No.: 201201-001.

Title: Port of Seattle/Terminal Operator Agreement.

Parties: Port of Seattle; Eagle Marine Services, Ltd; SSA Terminals LLC; SSA Terminals (Seattle), LLC; and Total Terminals International, LLC.

Filing Party: Wayne R. Rohde, Esq.; Cozen O'Connor; 1627 I Street, NW., Suite 1100; Washington, DC 20006.

Synopsis: The amendment updates the address of Eagle Marine Services, Ltd.

By Order of the Federal Maritime Commission.
Dated: January 28, 2011.
Karen V. Gregory,
Secretary.

[FR Doc. 2011-2302 Filed 2-1-11; 8:45 am]

BILLING CODE 6730-01-P